DEPARTMENT OF TRANSPORTATION

Federal Aviation Administration

14 CFR Part 71

[Docket No. FAA-2005-20061; Airspace Docket No. 05-ACE-3]

Modification of Class E Airspace; Ozark, MO

Correction

In rule document 05-2554 beginning on page 7021 in the issue of Thursday, February 10, 2005, make the following corrections:

1. On page 7021, in the third column, under the SUPPLEMENTARY INFORMATION heading, in the 19th line, “mule” should read “mile”.

2. On the same page, in the same column, under the same heading, in the 25th line, “7400.2ZE” should read “7400.2E”.

[FR Doc. C5-2554 Filed 2-17-05; 8:45 am]

BILLING CODE 1505-01-D